DEPARTMENT OF DEFENSE

GENERAL SERVICES ADMINISTRATION

NATIONAL AERONAUTICS AND SPACE ADMINISTRATION

[OMB Control No. 9000-0060]

Federal Acquisition Regulation; Submission for OMB Review; Accident Prevention Plans and Recordkeeping

AGENCY: Department of Defense (DOD), General Services Administration (GSA), and National Aeronautics and Space Administration (NASA).

ACTION: Notice of request for reinstatement of an information collection requirement regarding an existing OMB clearance.

SUMMARY: Under the provisions of the Paperwork Reduction Act of 1995 (44 U.S.C. Chapter 35), the Federal Acquisition Regulation (FAR) Secretariat will be submitting to the Office of Management and Budget (OMB) a request to review and approve an extension of a previously approved information collection requirement concerning accident prevention plans and recordkeeping. A request for public comments was published in the Federal Register at 74 FR 24854, May 26, 2009. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before September 14, 2009.

ADDRESSES: Submit comments regarding this burden estimate or any other aspect of this collection of information, including suggestions for reducing this burden to: FAR Desk Officer, OMB, Room 10102, NEOB, Washington, DC 20503, and a copy to the General Services Administration, Regulatory Secretariat (VPR), 1800 F Street, NW., Room 4041, Washington, DC 20405. Please cite OMB Control No. 9000-0060, Accident Prevention Plans and Recordkeeping, in all correspondence.

FOR FURTHER INFORMATION CONTACT: Ernest Woodson, Procurement Analyst, GSA (202) 501-3775 or e-mail ernest.woodson@gsa.gov.

SUPPLEMENTARY INFORMATION:

A. Purpose

The FAR clause at 52.236-13, Accident Prevention requires Federal construction contractors to provide and maintain work environments and procedures which will safeguard the public and Government personnel, property, materials, supplies, and equipment exposed to Contractor operations and activities; avoid interruptions of Government operations and delays in project completion dates; and control costs in the performance of its contract.

For these purposes on contracts for construction or dismantling, demolition, or removal of improvements, the Contractor is required to provide appropriate safety barricades, signs, and signal lights; comply with the standards issued by the Secretary of Labor at 29 CFR Part 1926 and 29 CFR Part 1910; and ensure that any additional measures the Contracting Officer determines to be reasonably necessary for the purposes are taken.

B. Annual Reporting Burden

Respondents: 2,106.

Responses per Respondent: 2.

Annual Responses: 4,212.

Hours per Response: 2.

Total Burden Hours: 8,424.

Obtaining Copies of Proposals: Requesters may obtain a copy of the information collection documents from the General Services Administration, Regulatory Secretariat (VPR), 1800 F Street, NW., Room 4041, Washington, DC 20405, telephone (202) 501-4755. Please cite OMB Control No. 9000-0060, Accident Prevention Plans and Recordkeeping, in all correspondence.

Al Matera,
Director, Office of Acquisition Policy.

[FR Doc. E9-19553 Filed 8-13-09; 8:45 am]

BILLING CODE 6820-EP-P